DEPARTMENT OF THE INTERIOR

Bureau of Indian Affairs

25 CFR Part 21

RIN 1076-AD98

Arrangement With States, Territories, or Other Agencies for Relief of Distress and Social Welfare of Indians

AGENCY: Bureau of Indian Affairs, Interior.

ACTION: Proposed rule.

SUMMARY: The Bureau of Indian Affairs (BIA) proposes to remove regulations on Arrangement with States, Territories, or other agencies for relief of distress and social welfare of Indians. The program governed by this rule is now administered under regulations in Contracts under the Indian Self-Determination and Education Assistance Act. Eliminating this rule will remove any confusion regarding the process for providing certain social services to the tribes.

DATES: Written comments must be submitted on or before May 28, 2002.

ADDRESSES: You may submit your comments on the proposed rule by mail or by hand-delivery to Larry Blair, Chief, Human Services Division, Office of Tribal Services, Bureau of Indian Affairs, Department of the Interior, 1849 C Street, NW, MS-4660-MIB, Washington, DC 20240.

FOR FURTHER INFORMATION CONTACT: Larry Blair at (202) 208-2479.

SUPPLEMENTARY INFORMATION: The authority to issue this document is vested in the Secretary of the Interior by 5 U.S.C. 301 and 25 U.S.C. 2 and 9. The Secretary has delegated this authority to the Assistant Secretary—Indian Affairs under Part 209 Departmental Manual, Chapter 8.1A, and by memorandum dated January 25, 1994, from Chief of Staff, Department of Interior, to Assistant Secretaries and Heads of Bureaus and Offices.

Background

A proposed rule was published in the Federal Register on July 1, 1996 (61 FR 33876), to revise the existing regulation in order to improve its clarity and understanding to the public through the use of Plain English. No comments were received on the July 1, 1996, publication. Due to questions raised by the Solicitor's Office on the impact that this proposed rule could have on the Office of Indian Education Programs, the rule was not finalized. Also, 25 CFR part 21 is no longer necessary because this program now falls under the regulations in 25 CFR part 900, which implement the Indian Self-Determination and Education Assistance Act (Pub. L. 93-638, 88 Stat. 2203, 25 U.S.C. 450 et seq., as amended). We therefore propose the removal of this part to clarify that tribal governments have total responsibility for operating social service programs.

Finally, this rule has never been used by the Office of Tribal Services, and used only once by the Office of Indian Education Programs. It has never been funded as a viable program.

Regulatory Planning and Review (Executive Order 12866)

This rule was reviewed by the Office of Management and Budget, and determined not to be a significant regulatory action under Executive Order 12866. This rule has not had an effect of $100 million or more on the economy, nor has it adversely or materially affected the economy, productivity, competition, jobs, the environment, public health or safety, of State, local, or tribal governments or communities. The removal of this rule will also not create any serious inconsistency or otherwise interfere with an action taken or planned by another agency. The removal of this rule removes the apparent inconsistency with the Self-Determination and Education Assistance Act, as amended. This rule does not alter the budgetary effects or entitlements, grants, user fees, or loan programs or rights or obligations of their recipients. 25 CFR part 21 deals with the negotiation, execution and planning of social service contracts yet, it has never been funded or used by the social services programs. This rule does not raise novel legal or policy issues because it has been replaced by a law more responsive to the needs of the tribes.

Regulatory Flexibility Act

This rule will not have a significant economic impact on a substantial number of small entities under the Regulatory Flexibility Act (5 U.S.C. 601 et seq.) This rule involves the negotiation, execution and planning of social service contracts, between the Federal Government and State or local governments, and does not have an effect upon the regulation of small business, organizations or grant jurisdiction over small governments. State and local governments will not be negatively impacted with the elimination of this rule because it has never been funded. They also are free to apply for grants under the Johnson-O'Malley Act providing no tribe or tribal entities are interested in applying.

Small Business Regulatory Enforcement Fairness Act

This rule is not a major rule under 5 U.S.C. 804 (2), the Small Business Regulatory Enforcement Fairness Act. This rule provides guidance for social services contracting and has no effect on the costs or prices in local communities. This rule does not have significant adverse effect on competition, employment, investments, productivity, innovation, or the ability of the U.S.-based enterprises to compete with foreign-based enterprises. This rule does not affect local enterprises and has never been used for operation of social service programs under this part.

Unfunded Mandates Act of 1995

This rule imposes no unfunded mandates on any State, local, or tribal government or private entities and is in compliance with the provisions of the Unfunded Mandates Act of 1995. This rule, if funded and used, would provide the funds needed in the contract to perform the services.

Takings (Executive Order 12630)

The Department has determined that this rule does not have significant “takings” implications, or pertain to “taking” of private property interests, nor does it affect private property.

This rule involves the negotiation, execution and planning of social service contracts, and does not deal with private property, or trusts. This rule does not affect property rights protected by the Constitution and does not pose a risk of compensable taking.

Federalism (Executive Order 12612)

The Department has determined that this rule does not have significant Federalism effects because it pertains solely to Federal-tribal relations and will not interfere with the roles, rights and responsibilities of states.

Civil Justice Reform (Executive Order 12988)

In accordance with Executive Order 12988, the Office of the Solicitor has determined that this rule does not unduly burden the judicial system and does not meet the requirements of section 3(a) and 3(b)(2) of the Order.

Paperwork Reduction Act of 1995

This rule has been examined under the Paper Reduction Act of 1995. Information collection was necessary for 25 CFR part 21 to identify how contract funds were to be used, and to measure contractors' performance and plans for future performance. Since its inception, 25 CFR part 21 has never been used by the social service program, and thus the information collections approved for contract funding or performances were allowed to expire, unused.

National Environment Policy Act

The Department has determined that this rule does not constitute a major Federal action significantly affecting the quality of human environment and that no detailed statement is required under the National Environmental Policy Act of 1969.

Consultation and Coordination with Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Public Comment Solicitation

If you wish to comment on this rule, you may send your comments by mail or hand-deliver them to the person listed in the ADDRESSES section of this document. Our practice is to make comments, including names and home addresses of respondents available for public review during regular business hours, Monday through Friday, 9:00 a.m. to 4:00 p.m. EST, excluding Federal holidays. Individual respondents may request that we withhold their home address from the rulemaking record. We will honor the request to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or business, available for public inspection in their entirety.

List of Subjects in 25 CFR Part 21

Indians, Indian-welfare contracts.

For the reasons stated in the preamble and under the authority of 25 U.S.C. 9, the Bureau of Indian Affairs proposes to remove 25 CFR part 21 from Chapter I of Title 25 of the Code of Federal Regulations.

Dated: March 14, 2002.
Neal A. McCaleb,
Assistant Secretary—Indian Affairs.

[FR Doc. 02-7208 Filed 3-25-02; 8:45 am]

BILLING CODE 4310-4J-P